SECURITIES AND EXCHANGE COMMISSION

Sunshine Act Meeting

Federal Register Citation of Previous Announcement: [66 FR 51076, October 5, 2001]

Status: Closed meeting.

Place: 450 Fifth Street, NW., Washington, DC.

Date and Time of Previously Announced Meeting: Tuesday, October 9, 2001 at 10 a.m.

Change in the Meeting: Additional items.

The following items were added to the closed meeting scheduled for Tuesday, October 9, 2001:

institution and settlement of injunctive actions;

settlement of administrative proceedings of an enforcement nature; and a formal order.

Commissioner Hunt, as duty officer, determined that Commission business required the above change and that no earlier notice thereof was possible.

At times, changes in Commission priorities require alterations in the scheduling of meeting items. For further information and to ascertain what, if any, matters have been added, deleted or postponed, please contact:

The Office of the Secretary at (202) 942-7070.

Dated: October 10, 2001.
Jonathan G. Katz,
Secretary.

[FR Doc. 01-25934 Filed 10-10-01; 4:42 pm]

BILLING CODE 8010-01-M